DEPARTMENT OF DEFENSE

Department of the Navy

Notice of Partially Closed Meeting of the Chief of Naval Operations (CNO) Executive Panel

AGENCY: Department of the Navy, DoD.

ACTION: Notice.

SUMMARY: The CNO Executive Panel will report on the findings and recommendations to the Chief of Naval Operations of the Subcommittee on Naval Unmanned Aerial Vehicle Systems. The matters to be discussed during the meeting have been divided into unclassified topics and classified/business sensitive topics.

Unclassified topics will be presented from 12 p.m. until 1 p.m. on March 11, 2010, during the open portion of the meeting. The topics to be presented during the open portion of the meeting include: Navy UAS policy and Navy UAS Manning.

Classified topics will be presented from 1:15 p.m. until 3 p.m. on March 11, 2010, during the closed portion of the meeting. The topics to be presented during the closed potion of the meeting include: Navy UAS Operations, USMC UAS Operations, Multi-Mission Maritime Aircraft Force Structure, Surface Surveillance Capabilities, Tilt-Rotor capabilities. Five of the six topics to be presented during the closed portion of the meeting are classified SECRET and SECRET//NOFORN respectively, and one topic is considered business sensitive, making these topics exempt from open meeting disclosure pursuant to Title 5 United States Code (USC) Section 552b(c).

DATES: The meeting will be held on March 11, 2010.

ADDRESSES: The meeting will be held at CNA, 4825 Mark Center Drive, Alexandria, VA 22311-1846, in the Boardroom.

FOR FURTHER INFORMATION CONTACT: CDR Michael Hart, CNO Executive Panel, 4825 Mark Center Drive, Alexandria, VA 22311-1846, 703-681-6207.

SUPPLEMENTARY INFORMATION: Pursuant to the provisions of the Federal Advisory Committee Act, as amended (5 USC App.), matters that constitute classified information that have been properly classified pursuant to such Executive Order are specifically authorized to be kept secret in the interest of national defense. In addition, matters determined to be business sensitive (trade secrets and privileged commercial and financial information) are exempt from an open meeting discussion. Accordingly, the Secretary of the Navy has determined in writing that the public interest requires that the sessions of this meeting from 1:15 p.m. until 3 p.m. be closed to the public because they deal with matters that are governed by sections 552b(c)(1) and 552b(c)(4) of Title 5, USC. The sessions from 12 p.m. until 1 p.m., which are unclassified, will be open to the public.

Individuals or interested groups may submit written statements for consideration by the CNO Executive Panel at any time or in response to the agenda of a scheduled meeting. All requests must be submitted to the Designated Federal Officer at the address detailed below. If the written statement is in response to the agenda mentioned in this meeting notice, then the statement, if it is to be considered by the Panel for this meeting, must be received at least five days prior to the meeting. The Designated Federal Officer will review all timely submissions with the CNO Executive Panel Chairperson, and ensure they are provided to members of the CNO Executive Panel before this meeting. Requests or statements will not be allowed or considered during the meeting.

To contact the Designated Federal Officer, write to Executive Director, CNO Executive Panel (N00K), 4825 Mark Center Drive, 2nd Floor, Alexandria, VA 22311-1846.

Dated: February 12, 2010.
A. M. Vallandingam,
Lieutenant Commander, Office of the Judge Advocate General, U.S. Navy, Federal Register Liaison Officer.

[FR Doc. 2010-3212 Filed 2-18-10; 8:45 am]

BILLING CODE 3810-FF-P